DEPARTMENT OF COMMERCE

International Trade Administration

[A-588-845]

Stainless Steel Sheet and Strip in Coils From Japan: Final Results of Changed Circumstance Antidumping Duty Review, and Determination To Revoke Order in Part

AGENCY: Import Administration, International Trade Administration, Department of Commerce.

ACTION: Final results of changed circumstance antidumping duty review, and determination to revoke order in part.

EFFECTIVE DATE: October 27, 2000.

SUMMARY: On September 13, 2000, the Department of Commerce (the Department) published in the Federal Register a notice of initiation of a changed circumstances antidumping duty review and preliminary results of review with intent to revoke, in part, the antidumping duty order on stainless steel sheet and strip in coils from Japan (65 FR 55221). We are now revoking this order, in part, with regard to the following product: certain stainless steel lithographic sheet, as described in the “Scope” section of this notice. This partial revocation is based on the fact that domestic parties have expressed no further interest in the relief provided by the order with respect to the importation or sale of this certain stainless steel lithographic sheet, as so described.

FOR FURTHER INFORMATION CONTACT: Alex Villanueva or James C. Doyle, Import Administration, International Trade Administration, U.S. Department of Commerce, 14th Street and Constitution Avenue, N.W., Washington, D.C. 20230; telephone (202) 482-6412 and (202) 482-0159, respectively.

SUPPLEMENTARY INFORMATION:

Applicable Statute and Regulations

Unless otherwise indicated, all citations to the statute are references to the provisions effective January 1, 1995, the effective date of the amendments made to the Tariff Act of 1930 (the Act) by the Uruguay Round Agreements Act (URAA). In addition, unless otherwise indicated, all citations to the Department's regulations are to the regulations at 19 CFR part 351 (April, 1999).

Background

On August 1, 2000, the Department received a request from General Development Corporation and its subsidiary Printing Developments, Inc. (PDI) for a changed circumstance review and an intent to revoke, in part, the antidumping duty (AD) order with respect to specific stainless steel lithographic sheet. The Department received a letter on August 15, 2000, from petitioners Allegheny Ludlum, AK Steel Corporation (formerly Armco, Inc.), J&L Specialty Steel, Inc., North American Stainless, the United Steelworkers of America, AFL-CIO/CLC, the Butler-Armco Independent Union, and the Zanesville Armco Independent Union, expressing no opposition to the request of General Development Corporation and its subsidiary PDI for revocation, in part, of the order pursuant to a changed circumstances review with respect to the subject merchandise defined in the Scope of the Review section below. Petitioners confirm that they have no objection to the retroactive application of the exclusion to the entries made from the date of the preliminary determination in the antidumping investigation, January 4, 1999, forward.

Pursuant to 19 CFR 351.222 (g)(1)(i) we preliminarily determined that petitioners' affirmative statement of no interest constituted changed circumstances sufficient to warrant a review and partial revocation of the order. Consequently, on September 13, 2000, the Department published an initiation of a changed circumstances review and preliminary results of review with an intent to revoke the order in part (65 FR 55221).

The merchandise under review is currently classifiable under subheading 7220.20.70 of the Harmonized Tariff Schedule of the United States (HTSUS). Although the HTSUS subheading is provided for convenience and customs purposes, our written description of the scope is dispositive.

Scope of Changed Circumstance Review

The products covered by this exclusion request and changed circumstances review are certain stainless steel lithographic sheet. This sheet is made of 304-grade stainless steel and must satisfy each of the following fifteen specifications. The sheet must (1) Have an ultimate tensile strength of minimum 75 KSI; (2) a yield strength of minimum 30 KSI; (3) a minimum elongation of 40 percent; (4) a coil weight of 4000-6000 lbs.; (5) a width tolerance of -0/+0.0625 inch; and (6) a gauge tolerance of +/-0.001 inch. With regard to flatness, (7) the wave height and wave length dimensions must correspond to both edge wave and center buckle conditions; (8) the maximum wave height shall not exceed 0.75 percent of the wave length or 3 mm (0.118 inch), whichever is less; and (9) the wave length shall not be less than 100 mm (3.937 inch). With regard to the surface, (10) the surface roughness must be RMS (RA) 4-8; (11) the surface must be degreased and no oil will be applied during the slitting operation; (12) the surface finish shall be free from all visual cosmetic surface variations or stains in spot or streak form that affect the performance of the material; (13) no annealing border is acceptable; (14) the surface finish shall be free from all defects in raised or depression nature (e.g., scratches, gouges, pimples, dimples, etc.) exceeding 15 microns in size and with regard to dimensions; and (15) the thickness will be .0145+/-.001 and the widths will be either 38″, 38.25″, or 43.5″ and the thickness for 39″ material will be .0118 +/-.001 inches.

Comments

In the preliminary results, we provided parties the opportunity to comment (65 FR 55221). We did not receive any comments from the interested parties.

Final Results of Review and Partial Revocation of the Antidumping Duty Order

The affirmative statement of no interest by petitioners concerning the stainless steel lithographic sheet and the fact that no interested parties objected to or otherwise commented on our preliminary results of review, constitute changed circumstances sufficient to warrant partial revocation of the order. Therefore, the Department is partially revoking the order on stainless steel sheet and strip in coils with respect to the product described above, in accordance with sections 751(b) and (d) and 782(h) of the Act and 19 CFR 351.222(g)(1)(i).

The Department will instruct the Customs Service (Customs) to proceed with liquidation, without regard to antidumping duties, of any unliquidated entries of stainless steel lithographic sheet, as specifically described in the “Scope of Changed Circumstance Review” section above, and entered, or withdrawn from the warehouse, for consumption on or after January 4, 1999. The Department will further instruct Customs to refund with interest any estimated duties collected with respect to unliquidated entries of stainless steel lithographic sheets entered, or withdrawn from warehouse, for consumption on or after the publication date of the final results of this changed circumstances review, in accordance with section 778 of the Act and 19 CFR 351.222(g)(4).

This notice also serves as a final reminder to parties subject to administrative protection orders (APOs) of their responsibility concerning the disposition of proprietary information disclosed under APO in accordance with 19 CFR 351.305(a)(3). Failure to timely notify the Department in writing of the return/destruction of APO material is a sanctionable violation.

This changed circumstances review, partial revocation of the antidumping duty order, and notice are in accordance with sections 751(b) and (d) and 782(h) of the Act and sections 351.216, 351.221(c)(3), and 351.222(g) of the Department's regulations.

Dated: October 19, 2000.
Troy H. Cribb,
Acting Assistant Secretary for Import Administration.

[FR Doc. 00-27684 Filed 10-26-00; 8:45 am]

BILLING CODE 3510-DS-P